DEPARTMENT OF ENERGY

Federal Energy Regulatory Commission

[Project No. 2351-017]

Public Service Company of Colorado; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 2351-017.

c. Date Filed: February 27, 2012.

d. Applicant: Excel Energy Services, Inc. on behalf of Public Service Company of Colorado.

e. Name of Project: Cabin Creek Pumped Storage Project.

f. Location: The existing project is located on the South Clear Creek and its tributary Cabin Creek in Clear Creek County, Colorado. The project, as currently licensed, is located on 267 acres of U.S. Forest Service lands within the Arapahoe National Forest.

g. Filed Pursuant to: Federal Power Act, 16 U.S.C. 791 (a)-825(r).

h. Applicant Contact: Christine E. Johnston, Xcel Energy, 4653 Table Mountain Drive, Golden, CO 80403; (720) 497-2156.

i. FERC Contact: David Turner, (202) 502-6091.

j. Deadline for filing motions to intervene and protests, comments, recommendations, preliminary terms and conditions, and preliminary prescriptions: 60 days from the issuance date of this notice; reply comments are due 105 days from the issuance date of this notice.

Motions to intervene, protests, comments, recommendations, preliminary terms and conditions, and preliminary fishway prescriptions may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Project Description: The existing project includes the following facilities: (1) A 210-foot-high, 1,458-foot-long concrete-faced rockfill Upper Dam across Cabin Creek; (2) a 25.4 acre upper reservoir with 1,087 acre-feet of usable storage between the maximum operating elevation of 11,196 feet mean sea level (msl) and the minimum operating elevation of 11,140 feet msl; (3) a 95-foot-high, 1,195-foot-long earthfill and rockfill Lower Dam across South Clear Creek; (4) a 44.8-acre lower reservoir with 1,221 acre-feet of usable storage between the maximum operating elevation of 10,002 feet msl and 9,975 feet msl; (5) a 145-foot-long auxiliary spillway constructed in the embankment of the lower reservoir with a crest elevation of 10,013 feet; (6) an intake structure located near the bottom of the upper reservoir; (7) a 12 to 15-foot-diameter, 4,143-foot-long power tunnel; (8) two 75-foot-long, 8.5-foot-diameter penstocks directing flow from the power tunnel to the powerhouse turbines; (9) a powerhouse installed at the lower reservoir containing two reversible turbine-generator units rated at 150 megawatts (nameplate capacity) each; (10) a switchyard located next to the powerhouse; (11) three miles of gravel access roads; and (12) appurtenant facilities.

Cabin Creek is a pumped storage project. The normal daily operation cycle involves pumping water from the lower reservoir to the upper reservoir during off-peak periods of energy demand and generating electricity with water released from the upper reservoir during the high energy demand part of the day. Under the current license, the applicant is required to provide a continuous release from the lower reservoir of three cubic feet per second or inflow, whichever is less, to South Clear Creek.

The applicant proposes the following changes to the project: (1) Upgrade the pump-generation equipment; (2) raise the usable storage capacity of the upper reservoir 75 acre-feet by raising the height of the dam 4.5 feet; and (3) increase the project boundary by 59 acres.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following revised Hydro Licensing Schedule. Revisions to the schedule may be made as appropriate.

Milestone | Target date
Ready for Environmental Analysis and Application Acceptance | Thursday, January 24, 2013.
Comments, Interventions, recommendations, prescriptions due | Wednesday, March 27, 2013.
Requests 401 Certification | Monday, March 25, 2013.
Reply Comments due | Thursday, May 09, 2013.
Issue single EA | Wednesday, July 24, 2013.
Comments on EA due | Friday, August 23, 2013.
Modified 4(e) and Fishway Prescriptions | Wednesday, October 23, 2013.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: January 25, 2013.
Kimberly D. Bose,
Secretary.

[FR Doc. 2013-02241 Filed 2-1-13; 8:45 am]

BILLING CODE 6717-01-P